NATIONAL ARCHIVES AND RECORDS ADMINISTRATION

36 CFR Parts 1200, 1253, and 1280

[FDMS Docket NARA-10-0002]

RIN 3095-AB66

NARA Facility Locations and Hours

AGENCY: National Archives and Records Administration (NARA).

ACTION: Direct final rule.

SUMMARY: NARA is amending several of its regulations; the amendments include a change to the naming convention for the regional archives, a new logo for NARA's regional records service office, and the addition of facility information for the locations of two NARA records centers. NARA is changing the naming convention for the regional archives, currently identified in the regulations by a geographic location following the name of the region (e.g. NARA-Northeast Region (Boston)). The Office of Regional Records Services has determined that the naming convention “The National Archives at [metropolitan city name]” will better identify to the public the services provided by NARA's regional archives located throughout the U.S. In conjunction with the new naming convention, the NARA headquarters office that administers NARA's regional records services, the Office of the Regional Records Services, has designed a new logo for the headquarters office; each of the regional archives will customize the logo by including their specific city name. The Federal Records Center Program of the Office of the Regional Records Services has also added two facilities to its list of locations. Because this rulemaking is a direct final rulemaking, the effective date will be the date of publication.

DATES: Effective April 15, 2010 without further action, unless adverse comment is received by May 17, 2010. If adverse comment is received, NARA will publish a timely withdrawal of the rule in the Federal Register.

FOR FURTHER INFORMATION CONTACT: Laura McCarthy at 301-837-3023.

SUPPLEMENTARY INFORMATION: NARA is revising several of its regulations; a change to the naming convention for the regional archives, addition of a new logo for the regional archives administered by NARA's Regional Records Service Office, and the addition of facility information for the locations of two NARA records centers.

The regional archives are currently identified in the regulations by a geographic location following the name of the region (e.g. NARA-Northeast Region (Boston)). The Office of Regional Records Services has determined that the naming convention “The National Archives at [metropolitan city name]” will better connect the public to the services provided by NARA's regional archives located throughout the U.S. This new name, similar to the name long used for “The National Archives at College Park,” will be used on brochures, other outreach materials, and signage for better identification by the public. The names are:

The National Archives at Anchorage;

The National Archives at Atlanta;

The National Archives at Boston;

The National Archives at Chicago;

The National Archives at Denver;

The National Archives at Fort Worth;

The National Archives at Kansas City;

The National Archives at New York;

The National Archives at Philadelphia;

The National Archives at Riverside;

The National Archives at San Francisco;

The National Archives at Seattle;

The National Archives at St. Louis, National Personnel Records Center.

In conjunction with the change to the naming convention for the regional archives, the Office of Regional Records Services has designed a new logo. The new logo for the headquarters staff for the regional archives and corresponding logos for the individual regional archives will provide the visual connection for the public akin to the naming convention.

The regional archives facilities in Boston and Kansas City have modified their hours to increase the public access. The new hours in Boston and Kansas City have been changed on the NARA web site and the revisions to the regulations reflect these changes. The new hours are Monday, Tuesday, Wednesday, Friday, 7 a.m. to 4:30 p.m., Thursday, 7 a.m. to 9 p.m., and some Saturday hours; previously, the facility hours were 8 a.m. to 4:30 p.m., Monday through Friday. The National Archives at Kansas City has changed it hours to provide greater public access, also. The facility is open from 8 a.m. to 4 p.m. for research and the exhibit area is open from 9 a.m. to 5 p.m.

The Federal Records Center Program of the Office of the Regional Records Services has added two facilities to its list of locations. The NARA-Great Lakes Region (Dayton-Miamisburg) has been in operation since February 2003, but was not added to the list of facilities. The second facility, NARA-Great Plains Region (Lenexa), was established in February 2003 and since it began operations, it has received records from the Veterans Administration and other federal agencies; the records center at Lenexa also received records formerly stored at the NARA records center on Bannister Road in Kansas City before its closure.

This rule is effective upon publication for “good” cause as permitted by the Administrative Procedure Act (5 U.S.C. 553(d)(3)). NARA believes that delaying the effective date for 30 days is unnecessary as this rule represents minor technical amendments. NARA also believes a comment period provided by notice of proposed rulemaking (5 U.S.C. 553(b)(B) is unnecessary as there are no changes to the public's ability to access the facilities or changes of services to the public. Moreover, the public benefits immediately with correct addresses and hours for NARA's facilities and any delay in the effective date would be contrary to the public interest. The adoption of the logo for the Office of Regional Records Services, as well as the facility name changes also assists the public in recognizing and locating NARA facilities outside the Washington, DC, area.

This direct final rule is not a significant regulatory action for the purposes of Executive Order 12866 and has not been reviewed by the Office of Management and Budget (OMB). As required by the Regulatory Flexibility Act, it is hereby certified that this rule will not have a significant impact on a substantial number of small entities because this rule applies to individual researchers. This rule does not have any federalism implications.

List of Subjects

36 CFR Part 1200

Seals and insignia.

36 CFR Part 1253

Archives and records.

36 CFR Part 1280

Federal buildings and facilities.

For the reasons set forth in the preamble, NARA amends parts 1200, 1253, and 1280 of title 36, Code of Federal Regulations, as follows:

PART 1200—OFFICIAL SEALS

1. The authority citation for part 1200 continues to read as follow:

Authority: 18 U.S.C. 506, 701, and 1017; 44 U.S.C. 2104(e), 2116(b), 2302.

2. Amend § 1200.7 by adding paragraph (a)(9) to read as follows:

§ 1200.7 What are NARA logos and how are they used?

* * * * *

(a) * * *

(9) Regional archives:

(i)

(ii) Each regional archives has the same logo design with the geographic location of the facility added.

* * * * *

PART 1253—LOCATION OF RECORDS AND HOURS OF USE

3. The authority citation for part 1253 continues to read as follows:

Authority: 44 U.S.C. 2104(a).

4. In § 1253.6:

a. Remove paragraph (g);

b. Redesignate paragraph (f) as (g);

c. Redesignate paragraphs (i) through (m) as (j) through (n); and

d. Add paragraphs (f) and (i) as follows:

§ 1253.6 Records Centers.

* * * * *

(f) NARA-Great Lakes Region (Dayton-Miamisburg) is located at 8801 Kingsridge Drive, Dayton, OH 45458. The hours are 8:30 a.m. to 5 p.m., Monday through Friday. The telephone number is (937) 425-0601.

(i) NARA-Central Plains Region (Lenexa) is located at 17501 W. 98th Street, Lenexa, KS 66219. The hours are 8 a.m. to 3:30 p.m., Monday through Friday. The telephone number is 913-563-7600.

* * * * *

5. Revise § 1253.7 to read as follows:

§ 1253.7 Regional Archives.

(a) The National Archives at Boston is located in the Frederick C. Murphy Federal Center, 380 Trapelo Rd., Waltham, MA 02452. Hours are Monday, Tuesday, Wednesday, Friday, 7 a.m. to 4:30 p.m., Thursday, 7 a.m. to 9 p.m., and some Saturday hours. The telephone number is 781-663-0130. The National Archives at Boston, Pittsfield Annex is located at 10 Conte Drive, Pittsfield, MA 01201-8230. The hours are 8 a.m. to 4:30 p.m., Monday through Friday. The telephone number is 413-236-3600.

(b) The National Archives at New York City is located at 201 Varick St., New York, NY 10014-4811 (the entrance is on Houston Street between Varick and Hudson). The hours are 9 a.m. to 5 p.m., Monday through Friday, and some Saturday hours. The telephone number is 212-401-1620, and toll-free at 1-866-840-1752.

(c) The National Archives at Philadelphia is located at the Robert N.C. Nix Federal Building, 900 Market St., Philadelphia, PA 19107-4292 (Entrance is on Chestnut Street between 9th and 10th Streets). The hours are 8 a.m. to 5 p.m., Monday through Friday, and some Saturday hours. The telephone number is 215-606-0100.

(d) The National Archives at Atlanta is located at 5780 Jonesboro Road, Morrow, GA 230260. The hours are 8:30 a.m. to 5 p.m., Tuesday through Saturday. The telephone number is 770-968-2100.

(e) The National Archives at Chicago is located at 7358 S. Pulaski Rd., Chicago, IL 60629-5898. The hours are 8 a.m. to 4:15 p.m., Monday through Friday, and some Saturday hours. The telephone number is 773-948-9000.

(f) The National Archives at Kansas City is located at 400 West Pershing Road, Kansas City, MO 64108-4306. The hours are Tuesday through Saturday: Eexhibits: 9 a.m. to 5 p.m.; research rooms: 8 a.m. to 4 p.m. The telephone number is 816-268-8000.

(g) The National Archives at Fort Worth is located at 1400 John Burgess Drive, Fort Worth, TX 76140 (mailing address: P.O. Box 6216, Fort Worth, TX 76115-0216). The hours are 6:30 a.m. to 4 p.m., Monday through Friday. The telephone number is 817-551-2051.

(h) The National Archives at Denver: The Textual Research room is located at Building 48, Denver Federal Center, West 6th Ave. and Kipling Street, Denver, CO. The hours are 7:30 a.m. to 3:45 p.m., Monday through Friday. The telephone number is 303-407-5740. The Microfilm Research room is located at Building 46, Denver Federal Center, West 6th Ave. and Kipling Street, Denver, CO. (The mailing address is: P.O. Box 25307, Denver, CO 80225-0307). The hours are 7:30 a.m. to 3:45 p.m., Monday through Friday. The telephone number is 303-407-5751.

(i) The National Archives at Riverside is located at 23123 Cajalco Road, Perris, CA 92570. The hours are 8 a.m. to 4:30 p.m., Monday through Friday. The telephone number is 951-956-2000.

(j) The National Archives at San Francisco is located at 1000 Commodore Dr., San Bruno, CA 94066-2350. The hours are 7:30 a.m. to 4 p.m., Monday through Friday. The telephone number is 650-238-3501.

(k) The National Archives at Seattle is located at 6125 Sand Point Way, NE., Seattle, WA 98115-7999. The hours are 7:45 a.m. to 4:15 p.m., Monday through Friday, and some Saturday hours. The telephone number is 206-336-5115.

(l) The National Archives at Anchorage is located at 654 West Third Avenue, Anchorage, AK 99501-2145. The hours are 8 a.m. to 4 p.m., Monday through Friday, and some Saturday hours. The telephone number is 907-261-7820.

(m) The National Archives at St. Louis, the National Personnel Records Center archival research room is located at 9700 Page Ave., St. Louis, MO 63132-5100. The hours are 10 a.m. to 4 p.m., Tuesday through Friday, except Federal holidays.

PART 1280—USE OF NARA FACILITIES

6. The authority citation for part 1280 continues to read as follows:

Authority: 44 U.S.C. 2102 notes, 2104(a), 2112, 2903.

7. Amend § 1280.2 by revising paragraph (d) to read as follows:

§ 1280.2 What property is under the control of the Archivist of the United States?

* * * * *

(d) The National Archives at Atlanta. The National Archives at Atlanta in Morrow, Georgia, as specified in 36 CFR 1253.7(d).

* * * * *

8. Amend § 1280.12 by revising paragraph (c) to read as follows:

§ 1280.12 Is parking available?

* * * * *

(c) Records services facilities. Most records services facilities have onsite parking available for researchers. Parking at these facilities and at the Washington National Records Center is governed by GSA regulations, Management of Buildings and Grounds, found at 41 CFR part 101-20. The National Archives at Philadelphia on Market Street (in Philadelphia) and the National Archives at New York City do not have onsite parking. However, there is ample parking in commercial parking garages near these facilities.

* * * * *

Dated: April 7, 2010.
David S. Ferriero,
Archivist of the United States.

[FR Doc. 2010-8567 Filed 4-14-10; 8:45 am]

BILLING CODE 7515-01-P